DEPARTMENT OF HOMELAND SECURITY

Coast Guard

33 CFR Part 117

[Docket No. USCG-2024-0628]

RIN 1625-AA09

Drawbridge Operation Regulation; Gulf Intracoastal Waterway, Osprey, FL

AGENCY: Coast Guard, DHS.

ACTION: Final rule.

SUMMARY: The Coast Guard is changing the operating schedule that governs the Blackburn Point Bridge across the Gulf Intracoastal Waterway (GICW), mile 63.1, at Osprey, FL. The Case Key Association has requested the Coast Guard consider changing the operating schedule to reduce drawbridge openings during the weekday peak traffic periods to assist with alleviating roadway congestion.

DATES: This rule is effective May 5, 2025.

ADDRESSES: To view documents mentioned in this preamble as being available in the docket, go to https://www.regulations.gov. Type the docket number (USCG-2024-0628) in the “SEARCH” box and click “SEARCH”. In the Document Type column, select “Supporting & Related Material.”

FOR FURTHER INFORMATION CONTACT: If you have questions on this rule, call or email mail Ms. Jennifer Zercher, Bridge Management Specialist, Seventh Coast Guard District; telephone 571-607-5951, email Jennifer.N.Zercher@uscg.mil.

SUPPLEMENTARY INFORMATION:

I. Table of Abbreviations

CFR Code of Federal Regulations

DHS Department of Homeland Security

FR Federal Register

OMB Office of Management and Budget

NPRM Notice of proposed rulemaking (advance, supplemental)

§ Section

U.S.C. United States Code

TD Temporary deviation

FL Florida

GICW Gulf Intracoastal Waterway

II. Background Information and Regulatory History

On August 6, 2024, the Coast Guard published a temporary deviation entitled “Drawbridge Operation Regulation; Gulf Intracoastal Waterway, Osprey, FL” in the Federal Register (89 FR 63815). The temporary deviation, effective from 7 a.m. on August 12, 2024, through 7 p.m. on January 31, 2025, allowed the Blackburn Point Bridge to operate with restricted, scheduled openings at peak traffic times during weekdays and operate on demand at all other times. The temporary deviation was authorized to test the impact of restricted opening on vessels and roadway traffic. The comment period for the temporary deviation ended September 20, 2024, with three comments received. Those comments were addressed in the notice of proposed rulemaking (NPRM) discussed next.

On January 8, 2025, the Coast Guard published an NPRM entitled “Drawbridge Operation Regulation; Gulf Intracoastal Waterway, Osprey, FL” in the Federal Register (90 FR 1402). There we stated why we issued the NPRM and invited comments on our proposed regulatory action related to this regulatory change. During the comment period that ended February 7, 2025, we received one comment, and that comment is addressed in section IV of this final rule.

III. Legal Authority and Need for Rule

The Coast Guard is issuing this rule under authority 33 U.S.C. 499.

Blackburn Point Bridge across the GICW, mile 63.1, at Osprey, FL, is a swing bridge with a 9-foot vertical clearance above mean high water when in the closed position. The existing general drawbridge regulation requires the bridge to open on demand any time a vessel requests an opening. The general drawbridge opening regulation can be found in 33 CFR 117.5.

The Coast Guard received a request from the Casey Key Association to consider changing the operating schedule for the Blackburn Point Bridge by allowing the drawbridge scheduled openings instead of on demand openings. This request was made to assist with vehicle congestion during the weekday daylight hours.

IV. Discussion of Comments, Changes and the Final Rule

The Coast Guard provided a comment period of 30 days, and one comment was received. The comment received stated that bridges in general, should not impede navigation any time. The default operating regulation for moveable bridges across navigable waters of the United States is to open on demand. Coast Guard policy is to minimize the impact of drawbridge operations on waterway traffic, while considering the needs of other modes of transportation. The test deviation has determined that by allowing the bridge to open at designated times has provided vehicle congestion relief while not having an unreasonable impact on navigation.

The current operating schedule allows the Blackburn Point Bridge to open on demand for marine traffic. Under this rule, the swing bridge will open at the top of the hour, 20 minutes past the hour and 40 minutes past the hour, Monday through Friday between the hours of 7 a.m. and 7 p.m. if a vessel request an opening for safe navigation. At all other times the swing bridge will open on demand. Vessels that can pass beneath the bridge without an opening may do so at any time. Emergency vessels and tugs with tows can still request an opening at any time.

This rule adds one new special requirement to § 117.287 for the Gulf Intracoastal Waterway, the Blackburn Point Bridge at Osprey, FL. Additionally, this rule will republish § 117.287 to reorganize the paragraph structure to follow current regulatory drafting requirements.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, it has not been reviewed by the Office of Management and Budget (OMB).

This regulatory action determination is based on the ability that vessels can still transit the bridge during the designated times and vessels able to pass without an opening may do so at any time.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the bridge may be small entities, for the reasons stated in section V. A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1., Revision No. 01.3.

2. Revise and republish § 117.287 to read as follows:

§ 117.287 Gulf Intracoastal Waterway.

Public vessels of the United States and tugs with tows must be passed through the drawspan of each drawbridge listed in this section at any time.

(a) The Boca Grande Swing Bridge, mile 34.3, at Placida, Florida shall open on signal; except that, from 7 a.m. to 6 p.m., Monday through Friday, except Federal holidays, the draw need only open on the hour and half hour. On Saturday, Sunday and Federal holidays, from 7 a.m. to 6 p.m., the draw need only open on the hour, quarter hour, half hour and three-quarter hour.

(b) The Venice Avenue Bridge, mile 56.6, at Venice, Florida shall open on signal, except that from 7 a.m. to 4:30 p.m., Monday through Friday except Federal holidays, the draw need only open at 10 minutes after the hour, 30 minutes after the hour and 50 minutes after the hour and except between 4:35 p.m. and 5:35 p.m. when the draw need not open.

(c) The Hatchett Creek (US-41) Bridge, mile 56.9, at Venice, Florida shall open on signal, except that, from 7 a.m. to 4:20 p.m., Monday through Friday except Federal holidays, the draw need only open on the hour, 20 minutes after the hour, and 40 minutes after the hour and except between 4:25 p.m. and 5:25 p.m. when the draw need not open. On Saturdays, Sundays, and Federal holidays from 7:30 a.m. to 6 p.m. the draw need only open on the hour, quarter-hour, half-hour, and three-quarter hour. This bridge need not open to navigation on the second Sunday of November annually, from 9 a.m. to 5 p.m., to facilitate the Iron Man Triathlon event.

(d) The Blackburn Point Bridge, mile 63.1, at Osprey, Florida shall open on signal; except that from 7 a.m. to 7 p.m., Monday through Friday, except Federal holidays, the draw need only open on the hour, 20 minutes after the hour, and 40 minutes after the hour.

(e) The Stickney Point Bridge, mile 68.6, at South Sarasota, Florida shall open on signal, except that from 6 a.m. to 7 p.m. daily, the draw need only open on the hour and half hour.

(f) The Siesta Drive Bridge, mile 71.6, at Sarasota, Florida shall open on signal, except that from 6 a.m. to 7 p.m. daily, the draw need only open on the hour and half hour.

(g) The Cortez (SR 684) Bridge, mile 87.4, at Bradenton Beach, Florida shall open on signal, except that from 6 a.m. to 7 p.m. daily, the draw need only open on the quarter hour and three-quarter hour.

(h) The Anna Maria (SR 64) (Manatee Avenue West) Bridge, mile 89.2, at Bradenton Beach, Florida shall open on signal, except that from 6 a.m. to 7 p.m. daily, the draw need only open on the quarter hour and three-quarter hour.

(i) The Corey Causeway (SR693) Bridge, mile 117.7, at South Pasadena, Florida shall open on signal; except that, from 8 a.m. to 7 p.m. Monday through Friday, and 10 a.m. to 7 p.m. Saturdays, Sundays, and Federal holidays, the draw need only open on the hour, 20 minutes after the hour, and 40 minutes after the hour.

(j) The Treasure Island Causeway Bridge, mile 119.0, at Treasure Island, Florida shall open on signal except that from 7 a.m. to 7 p.m. the draw need only open on the hour, 20 minutes after the hour and 40 minutes after the hour Monday through Friday and on the quarter hour and three-quarter hour on Saturday, Sunday and Federal holidays.

(k) The Welch Causeway (SR 699) Bridge, mile 122.8, at Madeira Beach, Florida, shall open on signal; except that, from 7 a.m. to 7 p.m. daily, except Federal holidays, the draw need only open on the hour and half hour.

Dated: March 24, 2025.
Douglas M. Schofield,
Rear Admiral, U.S. Coast Guard, Commander, Coast Guard Seventh District.

[FR Doc. 2025-05778 Filed 4-3-25; 8:45 am]

BILLING CODE 9110-04-P